Title 3—

The President

Proclamation 10677 of November 21, 2023

Death of Rosalynn Carter

By the President of the United States of America

A Proclamation

Throughout her life as First Lady of Georgia and First Lady of the United States, Rosalynn Carter exemplified hope, warmth, and a steadfast commitment to doing all she could to address many of our society's greatest needs. She was a champion for equal rights and opportunities for women and girls; an advocate for mental health and wellness for all; and a supporter of the often unseen and uncompensated caregivers of our children, aging loved ones, and people with disabilities. Above all, the deep love shared between Jimmy and Rosalynn Carter is the definition of partnership, and their humble leadership is the definition of patriotism.

As a mark of respect for the memory of Rosalynn Carter, by the authority vested in me as President of the United States by the Constitution and the laws of the United States of America, I hereby order that the flag of the United States shall be flown at half-staff at the White House and upon all public buildings and grounds, at all military posts and naval stations, and on all naval vessels of the Federal Government in the District of Columbia and throughout the United States and its Territories and possessions from November 25, 2023, until sunset, on the day of interment. I also direct that the flag shall be flown at half-staff for the same length of time at all United States embassies, legations, consular offices, and other facilities abroad, including all military facilities and naval vessels and stations.

IN WITNESS WHEREOF, I have hereunto set my hand this twenty-first day of November, in the year of our Lord two thousand twenty-three, and of the Independence of the United States of America the two hundred and forty-eighth.

[FR Doc. 2023-26350

Filed 11-28-23; 8:45 am]

Billing code 3395-F4-P